DEPARTMENT OF HEALTH AND HUMAN SERVICES

Administration for Community Living

Agency Information Collection Activities: Proposed Collection; Public Comment Request of the State Councils on Developmental Disabilities (Councils) OMB Control Number 0985-0033

AGENCY: Administration for Community Living, Department of Health and Human Services.

ACTION: Notice.

SUMMARY: The Administration for Community Living (ACL) is announcing an opportunity for the public to comment on the proposed collection of information listed above. Under the Paperwork Reduction Act of 1995 (PRA), Federal agencies are required to publish a notice in the Federal Register concerning each proposed collection of information, including each proposed extension of an existing collection of information, and to allow 60 days for public comment in response to the notice. This Information Collection (IC) Revision solicits comments on the information collection requirements relating to the State Councils on Developmental Disabilities (Councils) OMB control number 0985-0033.

DATES: Comments on the collection of information must be submitted electronically by 11:59 p.m. (EST) or postmarked by November 25, 2022.

ADDRESSES: Submit electronic comments on the collection of information to Sara Newell-Perez at Sara.Newell-Perez@acl.hhs.gov. Submit electronic comments on the collection of information to Administration for Community Living, 330 C Street SW, Washington, DC 20201, Attention: Sara Newell-Perez.

FOR FURTHER INFORMATION CONTACT: Sara Newell-Perez, 202-795-7413 or Sara.Newell-Perez@acl.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. The PRA requires Federal agencies to provide a 60-day notice in the Federal Register concerning each proposed collection of information, including each proposed extension of an existing collection of information, before submitting the collection to OMB for approval. To comply with this requirement, ACL is publishing a notice of the proposed collection of information set forth in this document.

With respect to the collection of information described below, ACL invites comments on our burden estimates or any other aspect of this collection of information, including:

(1) whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including through the use of automated collection techniques when appropriate, and other forms of information technology.

The State Councils on Developmental Disabilities (Councils) are authorized by Subtitle B of the Developmental Disabilities Assistance and Bill of Rights Act of 2000 (DD Act), as amended, [42 U.S.C. 15001 et seq.] (The DD Act). The DD Act requires Councils to submit an annual Program Performance Report. Section 125(c)(7) (42 U.S.C. 15025), states that: Beginning in fiscal year 2002, the Council shall annually prepare and transmit to the Secretary a report. Each report shall be in a form prescribed by the Secretary by regulation under section 104(b). Each report shall contain information about the progress made by the Council in achieving the goals of the Council as specified in section 124(c)(4)).

The Council is responsible for the development and submission of the PPR, and for reporting on performance measure data related to its progress in carrying out the goals and objectives of the State Plan. The data collected in the PPR and submitted to ACL is also used to comply with the GPRA Modernization Act of 2010 (GPRAMA). Performance measure results are reported to Congress under GPRAMA.

This is a revision of a currently approved information collection that expires in 2023. To ensure the DD Council PPR is consistent with the Executive Order on Advancing Racial Equity and Support for Underserved Communities Through the Federal Government and the Executive Order on Advancing Equality for Lesbian, Gay, Bisexual, Transgender, Queer, and Intersex Individuals, ACL intends to determine whether the sexual orientation and gender identity (SOGI) data elements need to be adapted prior to adding them to ensure accessibility of the questions for individuals with intellectual and developmental disabilities.

This IC will also include elements needed to account for the activities supported by funding from the Centers for Disease Control and Prevention (CDC) to support access to vaccines for people with disabilities as well as the funds awarded under the American Rescue Plan to increase the Public Health Workforce (PHWF). All other elements of the template remain consistent with previously approved performance measures and corresponds to requirements in the DD Act.

The information collected from the DD Councils is used for multiple purposes:

(1) To develop and submit at least every two years a report to the President, Congress, and the National Council on Disability that describes the goals and outcomes of programs supported under the DD Act.

(2) As a tool for DD Councils to measure and report on progress in reaching goals and identify areas for which revisions are indicated;

(3) To enhance the Federal project officers' monitoring of DD Council progress in reaching projected outcomes;

(4) As a set of performance measures that will yield a national portrait of DD Council program impact; and

(5) For Congress and the Administration in making funding and appropriation decisions with regard to the DD Council program.

The proposed data collection tools may be found on the ACL website for review at: https://www.acl.gov/about-acl/public-input.

Estimated Program Burden: Based on DD Council reporting experience, current data and reporting efforts constitute approximately 238 burden hours per grantee for a total of 1,556 hours. The table below outlines the estimate for the hours of burden associated with the collection of information. Estimated Total Annual Burden Hours: 13,328.

Respondent/data collection activity | Number of respondents | Responses per respondent | Hours per response | Total annual burden hours
State Councils on Developmental Disabilities, Annual Program Performance Report (PPR) | 56 | 1 | 172 | 9,632
DDC CDC Report | 56 | 1 | 52 | 2,912
DDC PHWF Report | 56 | 1 | 14 | 784
Total | 56 |  | 238 | 13,328

Date: September 20, 2022.
Alison Barkoff,
Acting Administrator and Assistant Secretary for Aging.

[FR Doc. 2022-20796 Filed 9-23-22; 8:45 am]

BILLING CODE 4154-01-P